DEPARTMENT OF EDUCATION

Office of Special Education and Rehabilitative Services; List of Correspondence

AGENCY: Department of Education.

ACTION: List of correspondence from July 1, 2008 through September 30, 2008.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA.

FOR FURTHER INFORMATION CONTACT: Laurel Nishi or Mary Louise Dirrigl. Telephone: (202) 245-7468.

If you use a telecommunications device for the deaf (TDD), you can call the Federal Relay Service (FRS) at 1-800-877-8339.

Individuals with disabilities may obtain a copy of this notice in an accessible format (e.g., braille, large print, audiotape, or computer diskette) on request to the contact persons listed under FOR FURTHER INFORMATION CONTACT.

SUPPLEMENTARY INFORMATION: The following list identifies correspondence from the Department issued from July 1, 2008 through September 30, 2008. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

Section 612—State Eligibility

Topic Addressed: Least Restrictive Environment.

○ Letter dated July 9, 2008 to Vermont Parent Information Center Lead Family Consultant Martha Frank, clarifying the factors that must be considered when a parent requests a public placement for their child at a private postsecondary institution.

Topic Addressed: State Educational Agency General Supervisory Authority.

○ Letter dated July 1, 2008 to individuals (personally identifiable information redacted), concerning requirements for timely State complaint resolutions.

○ Letter dated July 1, 2008 to Decatur, Georgia Attorney Jonathan A. Zimring concerning the minimum State complaint procedures in the regulations for Part B of the IDEA and concerns about the Georgia State educational agency's resolution of a particular State complaint.

○ Letter dated July 9, 2008 to individual (personally identifiable information redacted), concerning the minimum State complaint procedures in the regulations for Part B of the IDEA and concerns about a State educational agency's resolution of a particular State complaint.

○ Letter dated July 9, 2008 to The ARC of Pennsylvania Executive Director Stephen H. Suroviec, declining his request for the Office of Special Education Programs to conduct an investigation of the Pennsylvania Department of Education's (PDE) due process system, describing the minimum State complaint procedures in the regulations for Part B of the IDEA, and responding to concerns about the PDE's resolution of a particular State complaint.

○ Letter dated August 7, 2008 to Idaho Commission for the Blind and Visually Impaired Administrator Angela Jones, concerning a separate State agency that would provide outreach programs for children who are blind or visually impaired.

Topic Addressed: Obligations Related to and Methods of Ensuring Services.

○ Letter dated July 23, 2008 to Kinney Management Services, LLC representative Joseph Kinney, reiterating the Department's position that Medicaid billing issues are governed primarily by Medicaid requirements and State law, and explaining the parental consent requirements that apply when access to public benefits or insurance is sought.

Section 615—Procedural Safeguards

Topic Addressed: Prior Written Notice.

○ Letter dated August 15, 2008 to Missouri Department of Elementary and Secondary Education Assistant Commissioner Heidi Atkins Lieberman, concerning whether the prior written notice requirements in Part B of the IDEA are applicable when a parent proposes a change or a public agency proposes a change with which a parent agrees.

Topic Addressed: Protections for Children Not Yet Eligible for Special Education and Related Services.

○ Letter dated August 15, 2008 to Kentucky School Boards Association Senior Attorney Teresa T. Combs, clarifying the requirements in Part B of the IDEA that apply to evaluations of children suspected of having specific learning disabilities when those students are subject to disciplinary measures.

Part C—Infants and Toddlers With Disabilities

Section 632—Definitions

Topic Addressed: Early Intervention Services.

○ Letter dated July 1, 2008 to District of Columbia State Superintendent of Education's Early Care and Education Administration's Infants and Toddlers with Disabilities Division Program Manager Tracie Bullock Dickson, concerning when nebulizer treatments may be considered a health service under Part C of the IDEA.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Delegation of Authority: The Secretary of Education has delegated authority to Andrew J. Pepin, Executive Administrator for Special Education and Rehabilitative Services to perform the functions of the Assistant Secretary for Special Education and Rehabilitative Services.

Dated: February 18, 2009.
Andrew J. Pepin,
Executive Administrator for Special Education and Rehabilitative Services.

[FR Doc. E9-3814 Filed 2-20-09; 8:45 am]

BILLING CODE 4000-01-P